NATIONAL INDIAN GAMING COMMISSION

Privacy Act Procedures

AGENCY: National Indian Gaming Commission.

ACTION: Notice of a new system of records.

SUMMARY: The purpose of this document is to publish, as required by 5 U.S.C. 552a(e) and OMB Circular A-130, a notification of a system of records. The need for such a system arises as a result of laws regulating certain types of gaming on Indian lands.

DATES: This action will be effective without further notice on April 10, 2004, unless comments are received which result in a contrary determination.

ADDRESSES: Comments may be mailed to: National Indian Gaming Commission, System of Records Notice Comments, 1441 L Street, NW., Suite 9100, Washington, DC 20005, delivered to that address between 8:30 a.m. and 5:30 p.m., Monday through Friday, or faxed to (202) 632-7066 (this is not a toll-free number). Comments may be inspected between 9 a.m. and noon, and between 2 p.m. and 5 p.m. at the above address.

FOR FURTHER INFORMATION CONTACT: John R. Hay at (202) 632-7003; fax (202) 632-7066 (these are not toll-free numbers).

SUPPLEMENTARY INFORMATION: Congress established the National Indian Gaming Commission (NIGC or Commission) under the Indian Gaming Regulatory Act of 1988 (25 U.S.C. 2701 et seq.) (IGRA) to regulate gaming on Indian lands. The scope of this notice covers information necessary to ensure proper oversight of contract managers of gaming operations on Indian lands. The IGRA requires the Chairman to (1) obtain background information on each person having a direct financial interest in, or management responsibility for, a management contract, (2) conduct background investigations of such persons, and (3) make a determination as to the persons's suitability for Indian gaming. The Commission stores all such information in a system of records. Hence, the need arises for a system of records notice.

NIGC-2

System name:

Management Contract Individuals Record System.

Security classification:

Not classified.

System location:

National Indian Gaming Commission, 1441 L Street, NW., Suite 9100, Washington, DC 20005, and in the field locations of financial background investigators.

Categories of individuals covered by the system:

Persons with a financial interest in, or management responsibility for, a management contract as defined under 25 CFR part 502.

Categories of records in the system:

Copies of applications; background and financial information collected by staff and copies of reports of background investigations. Such information includes: (1) Full name, other names used, social security number(s) and birth date; (2) business and employment positions held, business and residence addresses, drivers license numbers; (3) the names and current addresses of personal references; (4) current business and residence telephone numbers; (5) a description of any previous business relationships with the gaming industry generally; (6) a description of any previous business relationships with Indian tribes; (7) the name and address of any licensing or regulatory agency with which the person has filed an application for license or permit relating to gaming; (8) for any felony for which there is an ongoing prosecution or conviction, the charge, the name and address of the court involved, and the date of disposition; (9) for any misdemeanor conviction or ongoing misdemeanor prosecution, the name and address of the court involved and the date and disposition; and (10) whatever other information the NIGC deems relevant.

Authority for maintenance of the system:

25 U.S.C. 2711.

Purpose:

Used by Commission members and staff to verify suitability of persons with a financial interest in, or management responsibility for, a management contract.

Routine uses of records maintained in the system, including categories of users and the purposes of such uses:

1. To disclose relevant information to Federal, State, tribal, or local law enforcement or regulatory agencies to verify information supplied by applicants in connection with determining suitability.

2. To disclose relevant information to tribes that engage management contractors to manage their Indian gaming operations.

3. In the event that records in this system indicate a violation or potential violation of law, criminal, civil, or regulatory in nature, the relevant records may be referred to the agency charged with responsibility for investigating or prosecuting such violation.

4. To disclose relevant information to a congressional office from the record of an individual in response to an inquiry from the congressional office made at the request of that individual.

5. To disclose relevant information to a Federal, State, local, or tribal agency (or their agents) that is involved in civil, criminal or regulatory investigations or prosecutions or investigations of activities while associated with a gaming operation to protect the integrity of Indian gaming.

6. To disclose relevant information to Indian tribal officials who have need for the information in the performance of their official duties.

Disclosure to consumer reporting agencies:

No disclosures are made to consumer reporting agencies.

Policies and practices for storing, retrieving, accessing, retaining, and disposing of records by the system:

Storage:

Paper files, electronic media, and other computer storage devices.

Retrievability:

Individual applicant name, gaming operation, management contractor, social security number, and birth date.

Safeguards:

During business hours, folders are maintained in locked cabinets to which only authorized personnel have access; automated records are protected by computer passwords and tape or disc library physical security. At the main facility the building has security guards and a secured door, and all entrances are monitored by electronic surveillance equipment after business hours.

Retention and disposal:

Records are retained and disposed of in accordance with National Archives and Records Administration requirements. Applications and summary reports are retained for 10 years; other information is retained for shorter periods. Individuals may request a copy of the disposition instructions from the NIGC Privacy Act Officer.

System manager and address:

Records Manager, National Indian Gaming Commission, 1441 L Street, NW., Suite 9100, Washington, DC 20005.

Notification procedure:

Persons wishing to inquire whether the System contains information concerning them may submit inquiries to the Privacy Act Officer, NIGC, at the address above. Such persons must provide proof of their identity by including a statement, signed by the person and either notarized or witnessed by two persons (including addresses of witnesses). The statement must be that the person is who he or she claims to be. If a person makes an inquiry in person, such person must present the Commission with a statement signed by the person and either notarized or witnessed by two persons (including addresses of witnesses).

Record access procedures:

Persons wishing access to their records should contact the Privacy Act Officer, NIGC, at the address above. Such persons must provide proof of their identity by including a statement, signed by the individual and either notarized or witnessed by two persons (including addresses of witnesses). The statement must be that the person is who he or she claims to be. If a person makes an inquiry in person, such person must present the Commission with a statement signed by the person and either notarized or witnessed by two persons (including addresses of witnesses). Such persons must comply with the Privacy Act regulations.

Contesting record procedures:

Any person who has reviewed a record pertaining to him or her may request that the Commission amend all or any part of that record by sending a request to the Privacy Act Officer. A request must contain the name of the person requesting the amendment, the name of the system of records where the record is maintained, a copy of the record to be amended or a description of that record, a statement of the material requested to be amended, and the basis for amendment, including material that substantiates the reason for the amendment.

Record source categories:

Individual applications for background investigations; background investigation reports compiled by the NIGC and sources including tribes, Office of Personnel Management, or by contractors; persons interviewed as part of a background investigation; Federal, state, foreign, tribal, and local law enforcement and regulatory agencies; Commission staff and members; credit bureaus.

Exemptions claimed for the system:

Under 5 U.S.C. 552a(k)(2) the Commission is claiming exemptions from certain provisions of the Act for portions of its records. The exemptions and the reasons for them are described in the regulations.

Dated: March 10, 2004.
Philip N. Hogen,
Chairman, National Indian Gaming Commission.

[FR Doc. 04-5796 Filed 3-12-04; 8:45 am]

BILLING CODE 7565-01-P